DEPARTMENT OF THE INTERIOR

National Park Service

[NPS-WASO-EQD-SSD-16140; PPWONRADE2, PMP00EI05.YP0000]

Proposed Information Collection; Comment Request: Colorado River Total Value Survey

AGENCY: National Park Service, Interior.

ACTION: Notice and request for comments.

SUMMARY: We (National Park Service) will ask the Office of Management and Budget (OMB) to approve the Information Collection Request (ICR) described below. The National Park Service (NPS) is requesting approval for a new collection that will be used to provide information. This information collection will provide data for the economic analysis that may be used to evaluate future dam operation. To comply with the Paperwork Reduction Act of 1995 and as a part of our continuing efforts to reduce paperwork and respondent burden, we invite the general public and other Federal agencies to comment on this ICR. A Federal agency may not conduct or sponsor and a person is not required to respond to a collection of information unless it displays a currently valid OMB control number.

DATES: To ensure that your comments on this ICR are considered, OMB must receive them on or before August 8, 2014.

ADDRESSES: Please submit written comments on this information collection directly to the Office of Management and Budget (OMB) Office of Information and Regulatory Affairs, Attention: Desk Officer for the Department of the Interior, via email to OIRA_Submission@omb.eop.gov or fax at 202-395-5806; and identify your submission as 1024-COLORIV. Please also send a copy of your comments to Bret Meldrum, Chief, Social Science Program, National Park Service, 1201 Oakridge Drive, Fort Collins, CO 80525-5596 (mail); Bret_Meldrum@nps.gov (email); or 970-267-7295 (phone) and Phadrea Ponds, Information Collection Coordinator, National Park Service, 1201 Oakridge Drive, Fort Collins, CO 80525 (mail); or phadrea_ponds@nps.gov (email). Please reference Information Collection 1024-COLORIV in the subject line.

FOR FURTHER INFORMATION CONTACT: Dr. John Duffield, University of Montana, Department of Mathematical Sciences, Missoula, MT 5981; bioecon@montana.com (email); or: 406-721-2265 (phone). You may also access this ICR at www.reginfo.gov.

I. Abstract

The National Park Service (NPS) Act of 1916, 38 Stat 535, 16 USC 1, et seq., requires that the NPS preserve national parks for the use and enjoyment of present and future generations. The proposed collection is needed to update the scientific information that was used in the 1996 Record of Decision that the Department of the Interior used to inform their decisions on Dam operations. This information will be used to assist in the development of an operating plan for the Glen Canyon Dam in accordance with the Grand Canyon Protection Act to protect and improve the values for which the Grand Canyon National Park and Glen Canyon National Recreation Area were established. This notice will cover the development and pretesting of the final survey instrument.

II. Data

OMB Control Number: None. This is a new collection.

Title: Colorado River Total Value Survey.

Type of Request: New.

Affected Public: General public; individual households.

Respondent Obligation: Voluntary.

Frequency of Collection: One time.

Estimated Number of Annual Responses: 2,140.

Estimated Annual Burden Hours: 1,042 hours.

Estimated Annual Reporting and Recordkeeping “Non-Hour Cost”: None.

III. Request For Comments

On September 23, 2013, we published a Federal Register notice (78 FR 58344) announcing that we would submit this ICR to OMB for approval. Public comments were solicited for 60 days ending November 23, 2013. We received three requests to review the draft versions of the survey instruments. In response to the requests, we provided a summary of the study purpose and design and informed that additional materials would be available for review once the request is submitted to OMB.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 2, 2014.
Madonna L. Baucum,
Information Collection Clearance Officer, National Park Service.

[FR Doc. 2014-15987 Filed 7-8-14; 8:45 am]

BILLING CODE 4310-EH-P